DEPARTMENT OF ENERGY

Federal Energy Regulatory Commission

[Docket No. RP93-187-016]

Equitrans, L.P.; Notice of Reconciliation Report

February 1, 2000.

Take notice that on January 28, 2000, Equitrans, L.P. (Equitrans) hereby submits the Reconciliation Report pursuant to Article II, Section 1 of the Stipulation and Agreement (Settlement) filed on July 31, 1995 in the above reference dockets, approved by the Commission on September 28, 1995.

Equitrans states that the purpose of this filing is to report the actual costs expended by Equitrans during the four-year surcharge period for well plugging and abandonment. The report shows by well number each of the wells plugged and abandoned, the date of the plugging and abandonment, current net book value of the wells of Equitrans' books, and the amounts incurred for such plugging and abandonment. Equitrans states that it will file a refund report with a true-up within thirty days of filing this reconciliation report.

Any person desiring to protest said filing should file a protest with the Federal Energy Regulatory Commission, 888 First Street, N.E., Washington, D.C. 20426, in accordance with Section 385.211 of the Commission's Rules and Regulations. All such protests must be filed on or before February 8, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-2651 Filed 2-04-00; 8:45 am]

BILLING CODE 6717-01-M